FEDERAL COMMUNICATIONS COMMISSION

Open Commission Meeting, Thursday, June 7, 2018

May 31, 2018.

The Federal Communications Commission will hold an Open Meeting on the subjects listed below on Thursday, June 7, 2018. Please note the meeting is scheduled to commence at 11:30 a.m. in Room TW-C305, at 445 12th Street SW, Washington, DC. This is a change from the usual 10:30 a.m. Open Meeting start time.

Item No. | Bureau | Subject
1 | WIRELESS TELE-COMMUNICATIONS, INTERNATIONAL AND OFFICE OF ENGINEERING & TECHNOLOGY | Title: Use of Spectrum Bands Above 24 GHz For Mobile Radio Services (GN Docket No. 14-177); Amendment of Parts 1, 22, 24, 27, 74, 80, 90, 95, and 101 To Establish Uniform License Renewal, Discontinuance of Operation, and Geographic Partitioning and Spectrum Disaggregation Rules and Policies for Certain Wireless Radio Services (WT Docket No. 10-112).
|  | Summary: The Commission will consider a Third Report and Order, Memorandum Opinion and Order, and Third Further Notice of Proposed Rulemaking that would continue efforts to make available millimeter wave spectrum, in bands at or above 24 GHz, for fifth-generation wireless, Internet of Things, and other advanced spectrum-based services. It would finalize rules for certain of these bands and seek comment on making additional spectrum available in the 26 GHz and 42 GHz bands for flexible terrestrial wireless use, sharing mechanisms in the Lower 37 GHz band, and earth station siting criteria for the 50 GHz band.
2 | WIRELINE COMPETITION | Title: Accelerating Wireline Broadband Deployment by Removing Barriers to Infrastructure Investment (WC Docket No. 17-84).
|  | Summary: The Commission will consider a Second Report and Order that will revise the Commission's section 214(a) discontinuance processes, network change disclosure processes, and Part 68 customer notification process to remove barriers to infrastructure investment and promote broadband deployment.
3 | WIRELINE COMPETITION | Title: Petition of NTCA—The Rural Broadband Association and the United States Telecom Association for Forbearance Pursuant to 47 U.S.C. § 160(c) from Application of Contribution Obligations on Broadband Internet Access Transmission Services (WC Docket No. 17-206).
|  | Summary: The Commission will consider an Order granting forbearance from applying Universal Service Fund contribution requirements to rural carriers' broadband Internet access transmission services.
4 | INTERNATIONAL | Title: Audacy Corporation Application for Authority to Launch and Operate a Non-Geostationary Medium Earth Orbit Satellite System in the Fixed-and Inter-Satellite Services (IBFS File No. SAT-LOA-20161115-00117).
|  | Summary: The Commission will consider an Order and Authorization that recommends granting Audacy's request to construct, deploy, and operate a proposed non-geostationary satellite (NGSO) constellation to provide continuous, high-speed, low-latency relay services to other NGSO spacecraft operators through Audacy's proposed satellites and gateway earth stations.
5 | INTERNATIONAL | Title: O3b Limited Request for Modification of U.S. Market Access for O3b Limited's Non-Geostationary Satellite Orbit System in the Fixed-Satellite Service and in the Mobile-Satellite Service (IBFS File Nos. SAT-MOD-20160624-00060, SAT-AMD-20161115-00116, SAT-AMD-20170301-00026, SAT-AMD-20171109-00154).
|  | Summary: The Commission will consider an Order and Declaratory Ruling that recommends granting a request to modify O3b's existing U.S. market access grant by adding new non-geostationary satellites and new frequency bands in order to provide broadband communication services in the United States.
6 | WIRELINE COMPETITION | Title: Updating the Intercarrier Compensation Regime to Eliminate Access Arbitrage (WC Docket No. 18-155).
|  | Summary: The Commission will consider a Notice of Proposed Rulemaking that proposes measures to eliminate access arbitrage in the intercarrier compensation regime.
7 | WIRELINE COMPETITION | Title: 8YY Access Charge Reform (WC Docket No. 18-156).
|  | Summary: The Commission will consider a Further Notice of Proposed Rulemaking that proposes taking further steps in reforming intercarrier compensation by transitioning interstate and intrastate originating 8YY end office and tandem switching and transport charges to bill-and-keep and capping and limiting 8YY database query rates.
8 | WIRELINE COMPETITION | Title: Text-Enabled Toll-Free Numbers (WC Docket No. 18-28); Toll Free Service Access Codes (CC Docket No. 95-155).
|  | Summary: The Commission will consider a Declaratory Ruling and Notice of Proposed Rulemaking that will clarify the Commission's rules regarding the authorization required to text-enable a toll-free number, and propose further safeguards to promote the innovative use of toll- free numbers while protecting the integrity of the toll-free numbering system.
9 | CONSUMER & GOVERNMENTAL AFFAIRS | Title: Protecting Consumers from Unauthorized Carrier Changes and Related Unauthorized Charges (CG Docket No. 17-169).
|  | Summary: The Commission will consider a Report and Order to protect consumers from slamming (the unauthorized change of a consumer's telephone provider) and cramming (the placement of unauthorized charges on a consumer's telephone bill), including rules to address sales call misrepresentations and abuses of the third-party verification procedures.
10 | CONSUMER & GOVERNMENTAL AFFAIRS | Title: Misuse of Internet Protocol (IP) Captioned Telephone Service (CG Docket No. 13-24); Telecommunications Relay Services and Speech-to-Speech Services for Individuals with Hearing and Speech Disabilities (CG Docket No. 03-123).
|  | Summary: The Commission will consider a Report and Order, Declaratory Ruling, Further Notice of Proposed Rulemaking, and Notice of Inquiry to adopt measures, and seek comment on others, to ensure that Internet Protocol Captioned Telephone Service (IP CTS) remains sustainable for people with hearing loss who need it.
11 | MEDIA | Title: Leased Commercial Access (MB Docket No. 07-42); Modernization of Media Regulation Initiative (MB Docket No. 17-105).
|  | Summary: The Commission will consider a Further Notice of Proposed Rulemaking that tentatively concludes that the Commission should vacate its 2008 Leased Access Order, and invites comment on ways to modernize the existing leased access rules.
12 | ENFORCEMENT | Title: Enforcement Bureau Action.
|  | Summary: The Commission will consider an enforcement action.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene Dortch,
Secretary.

[FR Doc. 2018-12184 Filed 6-6-18; 8:45 am]

BILLING CODE 6712-01-P